DEPARTMENT OF HOMELAND SECURITY

Federal Emergency Management Agency

[Docket ID FEMA-2011-0028]

Assistance to Firefighters Grant Program

AGENCY: Federal Emergency Management Agency, DHS.

ACTION: Notice of guidance.

SUMMARY: This Notice provides guidelines that describe the application process for grants and the criteria for awarding grants in the fiscal year (FY) 2011 Assistance to Firefighters Grant (AFG) Program year. It explains the differences, if any, between these guidelines and those recommended by representatives of the Nation's fire service leadership during the annual Criteria Development meeting, which was held October 6-7, 2010. The application period for the FY 2011 AFG Program year was open from August 15, 2011, to September 23, 2011, and was announced on http://www.grants.gov. Approximately 16,491 applications for AFG funding were submitted electronically, using the application submission form and process available at https://portal.fema.gov. Before the application period, the FY 2011 AFG Guidance and Application Kit was published on the AFG Web site (http://www.fema.gov/firegrants). Additional information to assist applicants also was provided on the AFG Web site, including an applicant tutorial, a Get Ready Guide, and a Narrative Assistance Guide. The AFG Program makes grants directly to fire departments and nonaffiliated emergency medical services (EMS) organizations for the purpose of enhancing the abilities of first responders to protect the health and safety of the public as well as that of first-responder personnel facing fire and fire-related hazards. In addition, the authorizing statute requires that a minimum of 5 percent of appropriated funds be expended for fire prevention and safety grants, which are also made directly to local fire departments and to local, regional, State, or national entities recognized for their expertise in the fields of fire prevention and firefighter safety research and development.

Authority: 15 U.S.C. 2229, 2229a.

DATES: Grant applications for the Assistance to Firefighters Grants were accepted electronically at https://portal.fema.gov, August 15, 2011 to September 23, 2011.

ADDRESSES: Assistance to Firefighters Grants Branch, Stop 3620, DHS/FEMA, 800 K Street NW., Washington, DC 20472-3620.

FOR FURTHER INFORMATION CONTACT: Catherine Patterson, Chief, Assistance to Firefighters Grants Branch, 1-(866) 274-0960.

SUPPLEMENTARY INFORMATION: The purpose of the AFG Program is to provide grants directly to fire departments and nonaffiliated EMS organizations to enhance their ability to protect the health and safety of the public, as well as that of first-responder personnel, with respect to fire and fire-related hazards. The governing statute requires that each year DHS publish in the Federal Register the guidelines that describe the application process and the criteria for grant awards.

Approximately 16,491 applications for AFG funding were submitted electronically, using the application submission form and process available at https://portal.fema.gov. Specific information about the submission of grant applications can be found in the FY 2011 Assistance to Firefighters Grant (AFG) Guidance and Application Kit, which is available for download at http://www.fema.gov/firegrants and at http://www.regulations.gov under docket ID FEMA-2011-0028.

Paper applications were accepted but discouraged due to the inherent delays with processing them and because they lack the applicant “help” features that are built into the electronic application. Applicants were able to obtain a copy of the of the official paper application form by calling 1-(866) 274-0960. Paper applications were sent via regular mail only; no application forms were sent via overnight delivery, fax, or email. Applicants were allowed to submit only the FY 2011 AFG application form that was mailed to them by the AFG. No other version of the application was accepted. Applicants were instructed not to use any paper application that they did not receive directly from the AFG and were instructed not to use a previous year's application. Paper applications had to be postmarked no later than September 23, 2011, and mailed to the following address:

Cabezon Group, ATTN: AFG Grant Program, 11821 Parklawn Drive, Suite 230, Rockville, MD 20852.

The AFG informed applicants that it would not be responsible for applications sent to any other address and that late, incomplete, or faxed applications would NOT be accepted.

Appropriations

Congress appropriated $404,190,000 for the FY 2011 AFG. From this amount, $380,747,000 will be made available for AFG awards. Funds appropriated for the FY 2011 AFG (pursuant to Public law 112-10) are available for obligation and award until September 30, 2012. FEMA received approximately 16,491 applications for assistance and anticipates that it will award approximately 4,000 grants with the grant funding available.

Congress directed DHS to administer the appropriations:

• Up to 5.8 percent of funds may be used for program administration.

• Up to 2 percent of funds may be used for awards to nonaffiliated EMS organizations.

• No more than 25 percent of funds may be used for vehicle awards. Of that amount, up to 15 percent may be used for fire-based EMS emergency transport vehicles (with a cap of $120,000 per unit).

• No less than 3.5 percent of funds must be awarded for equipment and training grants for both fire-based EMS and nonaffiliated EMS.

• No less than 5 percent of funds must be made available to make grants supporting eligible fire prevention activities (Fire Prevention and Safety (FP&S) Grants) and research and development activities that improve firefighter safety. However, due to the importance of mitigation activities, the FY 2011 FP&S will be allocated $35 million for grants. The FP&S Grants are not part of this AFG solicitation. The FP&S Grant application period is expected to commence in the fall of 2011.

Background of the Assistance to Firefighters Grant Program

DHS awards the grants on a competitive basis to the applicants that best address the AFG Program's priorities and provide the most compelling justification. Applications that best address the Program's priorities will be reviewed by a panel composed of fire service personnel.

Award Criteria

The panel will review the application and evaluate it using the following criteria:

• Proposed project and the project budget.

• Financial need for the project.

• Benefits that would result from the project.

• Extent to which the grant would enhance daily operations.

• How the grant will positively impact the regional ability to protect life and property.

The AFG Program for FY 2011 generally mirrors the AFG Program of previous years. DHS again will have a separate application period devoted solely to FP&S, which will is projected to occur in the fall of 2011. All applications for grants will be prepared and submitted through the AFG e-Grants system (https://portal.fema.gov).

Statutory Limits to Funding

Congress has enacted statutory limits to the amount of funding that a grantee may receive from the AFG Program in any single fiscal year (15 U.S.C. 2229(b)(10)). These limits are based on the population served. Awards will be limited based on the size of the population protected by the applicant, as indicated below.

• An applicant that serves a jurisdiction with 500,000 people or less may not receive grant funding in excess of $1 million for any fiscal year.

• A grantee that serves a jurisdiction with more than 500,000 but not more than 1 million people may not receive grants in excess of $1,750,000 in any fiscal year.

• A grantee that serves a jurisdiction with more than 1 million people may not receive grants in excess of $2,750,000 in any fiscal year.

DHS may waive these established limits to any grantee serving a jurisdiction of 1 million people or less if the agency determines that an extraordinary need for assistance warrants the waiver. No grantee, under any circumstance, may receive “more than the lesser of $2,750,000 or one-half of 1 percent of the funds appropriated under this section for a single fiscal year.” (15 U.S.C. 2229(b)(10)(B)).

Cost Sharing

Grantees must share in the costs of the projects funded under this grant program (15 U.S.C. 2229(b)(6)). Fire departments and nonaffiliated EMS organizations that serve populations of less than 20,000 must match the Federal grant funds with an amount of non-Federal funds equal to 5 percent of the total project cost. Those fire departments and nonaffiliated EMS organizations serving areas with a population between 20,000 and 50,000, inclusive, must match the Federal grant funds with an amount of non-Federal funds equal to 10 percent of the total project cost, and those that serve populations of more than 50,000 must match the Federal grant funds with an amount of non-Federal funds equal to 20 percent of the total project costs. Regional project cost share will be based on the total population and demographics of the entire region. All non-Federal funds must be in cash, i.e., in-kind contributions are not acceptable as matching funds. No waivers of this requirement will be granted except for applicants located in Insular Areas as provided for in 48 U.S.C. 1469a.

Statutory Requirements for Funding Distribution

The authorizing statute imposes additional requirements on ensuring a distribution of grant funds among career, volunteer, and combination (volunteer and career personnel) fire departments, and among urban, suburban, and rural communities. More specifically with respect to department types, DHS must ensure that all-volunteer or combination fire departments receive a portion of the total grant funding that is not less than the proportion of the United States population that those departments protect (15 U.S.C. 2229(b)(11)). There is no corresponding minimum for career departments. Therefore, subject to the other statutory limitations on the ability of DHS to award funds, DHS will ensure that, for the 2011 program year, no less than 33.5 percent of the funding available for grants will be awarded to combination departments, and no less than 19.5 percent will be awarded to all-volunteer departments. These figures were obtained from the National Fire Protection Association report entitled U.S. Fire Department Profile Through 2009, issued October 2010. If, and only if, other statutory limitations inhibit the ability of DHS to ensure this distribution of funding, DHS will ensure that the aggregate combined total percentage of funding provided to both combination and volunteer departments is no less than 53 percent.

DHS generally makes funding decisions using rank order resulting from the panel evaluation. However, DHS may deviate from rank order and make funding decisions based on the type of department (career, combination, or volunteer) and/or the size and character of the community the applicant serves (urban, suburban, or rural) to the extent it is required to satisfy statutory provisions.

Central Contractor Registration (CCR)

Since October 1, 2003, it has been federally mandated that any organization wishing to do business with the Federal government under a FAR-based contract must be registered in CCR before being awarded a contract. This includes applicants and grantees for the Assistance to Firefighters Grant Program. To submit a new registration. go to: http://www.bpn.gov/ccr/grantees.aspx.

Fire Prevention and Safety Grant Program

In addition to the grants available to fire departments in FY 2011 through the competitive grant program, DHS must set aside no less than 5 percent ($20,250,000) of AFG Program funds for the FP&S Grant Program. However, due to the importance of mitigation activities, DHS will allocate $35 million for the FY 2011 FP&S Grant Program. The FP&S funds will be available to make grants to, or enter into contracts or cooperative agreements with, national, State, local, or community organizations or agencies, including fire departments.

In accordance with the statutory requirement to fund fire prevention activities, the FP&S Program offers grants to support activities in two categories: (1) Activities designed to reach high-risk target groups and mitigate incidences of death and injuries caused by fire and fire-related hazards (“Fire Prevention and Safety Activity”); and (2) research and development activities aimed at improving firefighter safety (“Firefighter Safety Research and Development Activity”). DHS will issue an announcement regarding pertinent details of the FY 2011 FP&S Grant portion of the AFG Program prior to the start of the application period, which is tentatively scheduled for fall of 2011.

Application Process

Prior to the start of the FY 2011 AFG application period, DHS conducted applicant workshops across the country to inform potential applicants about the AFG Program. In addition, DHS provided applicants with an online web-based tutorial (available at the AFG Web site: www.fema.gov/firegrants) and other online information to help them prepare quality grant applications. The AFG also staffed a Help Desk throughout the application period. The AFG Help Desk staff members provided assistance to applicants with navigation through the automated application as well as assistance with any questions they had. Applicants could reach the AFG Help Desk through a toll-free telephone number (1-(866) 274-0960) or electronic mail (firegrants@dhs.gov).

Applicants were advised to access the application electronically at https://portal.fema.gov. New applicants had to register and establish a username and password for secure access to their application. Applicants that applied to any previous AFG funding opportunities had to use their previously established usernames and passwords. In completing the application, applicants provided relevant information on their organization's characteristics, call volume, and existing capabilities. Applicants were asked to answer questions about their grant request that reflected the AFG funding priorities, which are described below. In addition, each applicant had to complete four separate narratives for each Request Details activity. These narratives addressed statutory competitive factors: project description and budget, cost benefit, effect on the organization, and additional information. The electronic application process permitted the applicant to enter and save the application. The system did not permit the submission of incomplete applications. Except for the narrative textboxes, the application used a “point-and-click” selection process, or required the entry of information (e.g., name and address, call volume numbers, etc.).

Applicants were encouraged to read the AFG Guidance and Application Kit for more details.

Application Review Process

DHS first will evaluate all applications received through an automated preliminary screening process to determine which applications best address the AFG Program's announced funding priorities. The automated preliminary screening will evaluate and score the applicants' answers to the activity-specific questions. Applications containing multiple activities will be given prorated scores based on the amount of funding requested for each activity. The applications that best meet the AFG Program priorities as determined by the preliminary screening will be deemed to be in the “competitive range.” Once the competitive range is established, DHS will review the list of applicants that were not included in the competitive range to determine if any are responsible for protecting DHS-specified critical infrastructure or key resources. All applications will be evaluated against the award criteria described in this document.

All applications deemed to be in the competitive range will be subjected to a second level of review by a technical evaluation panel (TEP) made up of individuals from the fire service, including, but not limited to, firefighters, fire marshals, and fire training instructors. The panelists, or peer reviewers, will assess each application's merits with respect to the clarity and detail used to describe the project and its budget, the project's purported benefits relative to its cost (cost benefit), the extent to which the project would enhance daily operations, and additional information provided by the applicant. Using the evaluation criteria described below, the panelists will evaluate and score independently each application referred for peer review and then discuss the merits and shortcomings of each application in an effort to reconcile any major discrepancies. However, a consensus among reviewers on the scores is not required.

Applications will receive two reviews that comprise their total application score. The first review will evaluate the application to see if its requests meet the funding priorities. This will count for 50 percent of the application's total score and will determine whether or not the application goes to a peer review panel for further evaluation. The second review is the peer review panel score, which is 50 percent of the application's total score. Applications then will be ranked according to the total application scores, and DHS will consider the highest-scoring applications for awards.

Applications that involve interoperable communications projects will undergo a separate review by the responsible State Administrative Agency to assure that the communications project is consistent with the Statewide Communications Interoperability Plan (SCIP). If the State determines that the project is inconsistent with the SCIP, the project will not be funded.

After the completion of the TEP reviews, DHS will select a sufficient number of awardees from this application period to obligate all of the available grant funding. DHS will announce the awards over several months and will notify unsuccessful applicants as soon as feasible. DHS will not make the awards in any specified order, i.e., awards will not be made by State, program, etc.

Environmental and Historic Preservation Review

Applications seeking assistance to modify facilities or to install equipment requiring renovations may undergo additional screening. Modification to facility projects (including renovations associated with equipment installations) will be subject to all applicable Federal requirements for environmental and historic preservation (EHP). No project that involves a modification to facility can proceed—except for project planning—without prior formal written approval from DHS and the completion of any required EHP review. If an award includes a modification to a facility, the applicant will be responsible for contacting the AFG staff to receive instructions on how to proceed. Noncompliance with these provisions may jeopardize an applicant's award and subsequent funding.

Criteria Development Process

Each year, DHS convenes a panel of fire service professionals to develop the funding priorities and other implementation criteria for AFG. The Criteria Development Panel is comprised of representatives from nine major fire service organizations, who are charged with making recommendations to FEMA regarding the creation of new, and/or modification of, previously funded priorities as well as developing criteria for awarding grants. The nine major fire service organizations represented on the panel are:

• Congressional Fire Services Institute (CFSI)

• International Association of Arson Investigators (IAAI)

• International Association of Fire Chiefs (IAFC)

• International Association of Fire Fighters (IAFF)

• International Society of Fire Service Instructors (ISFSI)

• National Association of State Fire Marshals (NASFM)

• National Fire Protection Association (NFPA)

• National Volunteer Fire Council (NVFC)

• North American Fire Training Directors (NAFTD)

The FY 2011 criteria development panel meeting occurred October 6-7, 2010. The content of the FY 2011 AFG Guidance and Application Kit reflects the implementation of the Criteria Development Panel's recommendations with respect to the priorities, direction, and criteria for awards. All of the funding priorities for the FY 2011 AFG are designed to address the following:

• First responder safety

• Enhancement of national capabilities

• Risk

• Interoperability

Changes for FY 2011

• FY 2011 AFG Guidance. The FY 2011 AFG Guidance and Application Kit is condensed into two sections. Section I contains application and review information, and Section II contains award administration information.

• Online Tools for Applicants. A “Get Ready Guide” and a “Quick Reference Guide” are online reference documents designed to help applicants prepare for completing the AFG application.

• Application Scoring. In a change from previous years, applications will receive two reviews that comprise their total application score. The first review will measure the application request to see if it meets the funding priorities. This will count for 50 percent of the total score and will measure whether or not the application goes to panel review. The second review is the panel review score, which is 50 percent of the application's total score. Applications then will be ranked according to the total application scores, and DHS will consider the highest-scoring applications for awards.

• Regional Projects. Personal protective equipment is now an eligible expense.

• Operations and Safety.

(1) Boats (20 feet and under). Eligible for request in the Equipment activity.

(2) Self-Contained Breathing Apparatus (SCBA). SCBAs that are manufactured before the NFPA 2002 standard are a high priority for funding.

(3) Wellness and Fitness Programs. Firefighter and EMS wellness and fitness programs will be required to offer a fourth component—a behavioral health program—in addition to periodic health screenings, entry physical exams, and immunizations.

(4) Flashover Simulators. No longer eligible for funding.

• Vehicle Acquisition

(1) In fire-based EMS, ambulances will be the equivalent to a pumper as a high priority item.

(2) Applicants may request more than one vehicle per station.

(3) Applicants that do not have drivers and operators trained to current NFPA 1002 or equivalent standards, and do not plan to have a training program in place by the time the requested vehicle is delivered, will not be eligible to receive a vehicle grant.

(4) Extended warranties and service agreements are eligible expenses.

Changes to Criteria Development Panel Recommendations

DHS must explain any differences between the published guidelines and the recommendations made by the criteria development panel and publish this information in the Federal Register prior to making any grants under the Program (15 U.S.C. 2229(b)(14)). DHS accepts and is implementing all of the Criteria Development Panel's recommendations, with the exception of the two that we recommended be revised (discussed below).

(1) Panel members recommended adding value at the prescore level for applications that answer a question indicating that they will buy equipment or vehicles made in the U.S. This recommendation requires inserting new questions into the AFG application and asking applicants to indicate whether it is their intention to purchase equipment or vehicles made in the U.S. When the preliminary assessment is performed, applications that contain affirmative answers to those questions will receive a higher score than those that do not.

DHS acknowledges this Panel recommendation but was unable to implement this scoring change with the FY 2011 AFG application. DHS will work with the Criteria Development Panel and internal DHS policies to determine the feasibility of this recommendation in future grant programs.

(2) Panel members recommended that the formal driver training programs required of AFG vehicle awardees (fire and EMS) include the minimum U.S. Department of Transportation (DOT) (649-F) medical examination report or equivalent.

DHS acknowledges this recommendation but was concerned that small, rural fire departments may be disadvantaged by this requirement because they may not have easy access to medical professionals who can provide examinations that meet the required standard to all of the individuals in the driver training program. DHS will work with the Criteria Development Panel to achieve compliance with the USDOT standard but also allow some flexibility for grantees having difficulty meeting that standard.

Application Review Considerations

The governing statute requires that each year DHS publish in the Federal Register a description of the grant application process and the criteria for grant awards. This information is provided below.

Fire Department Priorities

Specific rating criteria for each of the eligible programs and activities are discussed below. The funding priorities described in this Notice have been recommended by a panel of representatives from the Nation's fire service leadership and have been accepted by DHS for the purposes of implementing the AFG. These rating criteria provide an understanding of the Grant Program's priorities and the expected cost-effectiveness of any proposed project(s). The activities listed below are in no particular order of priority. Within each activity, DHS will consider the population served by the applicant, with applicants that serve larger populations afforded a higher consideration than applicants that serve smaller populations. DHS further explained the Program priorities in the Guidance and Application Kit that was published separately.

(1) Fire Operations and Firefighter Safety Program.

(i) Firefighter Training Activities. The Criteria Development Panel recommended that AFG continue to emphasize the importance of training in the FY 2011 program with respect to fire departments.

Funding Priorities

Due to inherent differences among urban, suburban, and rural firefighting needs, AFG has different priorities in the Firefighting Training program area for departments that serve different types of communities. These are described in detail in the FY 2011 AFG Guidance and Application Kit.

The highest priorities for training in all types of communities include NFPA 1001, 1002, 472, 1581, 1021; confined space awareness; wildland firefighting (basic and red card training); rapid intervention or RIT; first responder; firefighter safety and survival; safety officer; driver/operator; fire prevention; fire inspector; fire investigator; and fire educator; NIMS/ICS; firefighting physical ability program; emergency scene rehab; critical incident debriefing; firefighter physical agility training; and training needed to comply with State-mandated and federally mandated programs. Please see the Guidance and Application Kit for additional information on the high, moderate, and low priorities for training in urban, suburban, and rural communities. Additional consideration include factors such as multiple departments will be trained, instructor-led vs. media-led, call volume, number of firefighters trained, and population served. Large departments with a high number of active firefighters will receive additional consideration.

(ii.) Firefighting Equipment Acquisition. AFG funds are available for equipment to enhance the safety or effectiveness of firefighting, rescue, and fire-based EMS functions. Equipment requested must meet all mandatory requirements as well as any national and/or state DHS-adopted standards. See NFPA standards at http://www.NFPA.org. The equipment requested should improve the health and safety of the public and firefighters.

Funding Priorities

Highest priority for funding will be first-time equipment purchases to support an existing mission and/or replace obsolete, broken/inoperable equipment. A moderate priority will be equipment purchases to increase capabilities within the department's existing mission or to meet a new risk. Low priority for funding will be requests for equipment for a new mission to meet an existing risk and/or request additional supplies or reserve equipment. A department takes on a “new mission” when it expands its services into areas not previously offered, such as a fire department seeking funds to provide EMS for the first time. A “new risk” presents itself when a department must address risks that have materialized in the department's area of responsibility, e.g., the construction of a new nuclear power plant could constitute a “new mission.”

Additional consideration will be given for the following factors:

• Equipment that has a direct effect on firefighters' health and safety

• Frequency of use and type of jurisdiction served

• Age of equipment being replaced

• Equipment that benefits other jurisdictions

• Equipment that brings the department into compliance with nationally recommended standards (i.e., NFPA) or statutory compliance (i.e., Occupational Safety & Health Administration (OSHA))

• Call volume

• Population served

(iii.) Firefighter Personal Protective Equipment (PPE) Acquisition. AFG funds are available to acquire primarily OSHA-required and NFPA-compliant PPE for firefighting personnel. Equipment requested must meet all current mandatory requirements, as well as any national and/or state DHS-adopted standards. Equipment requested should have the goal of increasing firefighter safety. Information on the relevant NFPA standards can be obtained from the organization's Web site at http://www.NFPA.org. If requesting training for any items in this section, please list them under Additional Funding for each item to which it applies.

Funding Priorities

The highest priorities for funding will be departments requesting new PPE for the first time and departments replacing or updating obsolete PPE to the current standard. The moderate priority for funding will be requests to replace torn, tattered, damaged, or contaminated PPE. PPE requested to address a new risk also will be considered a moderate funding priority. A low priority for funding will be requests to replace worn but usable PPE that is not compliant to the current edition of the NFPA standard and/or to handle a new mission, or to increase current inventory.

Self-Contained Breathing Apparatus

Awards will be based on number of seated positions in the department's vehicle fleet and the age of existing SCBAs, limited to one spare cylinder (unless justified otherwise in the Request Details narrative for the PPE activity). New SCBAs must have automatic-on or integrated Personal Alert Safety System (PASS) devices and be CBRNE-compliant to the current edition of the NFPA 1981 standard.

Funding Priorities

Highest priority will be to replace SCBAs that are compliant with NFPA 1981, pre-2002 Edition. All requests must be justified in the Request Details narrative for the PPE activity. Somewhat lower priority will be to replace SCBAs that are compliant with the 2007 edition of NFPA 1981. It will be a low priority to replace SCBAs that are compliant with the 2002 edition of NFPA 1981 (the need for which must be justified in the PPE narrative).

(iv.) Firefighter Wellness and Fitness Activities. Wellness and Fitness programs are intended to strengthen first responders so that their mental, physical, and emotional capabilities are resilient enough to withstand the demands of emergency services response. To be eligible for FY 2011 funding of this activity, fire departments must offer, or plan to offer, all four of the following basic programs:

• Periodic health screenings.

• Entry physical examinations.

• Immunizations.

• Behavioral health programs.

Funding Priorities

The highest priority will be to fund requests from applicants that currently do not have any of the four basic programs listed above and seek funds to offer all four programs. A moderate priority will be to support requests from applicants that currently offer some of the four basic programs and want to begin to offer the remaining programs. Low priority will be given to requests from applicants that want to obtain physical fitness equipment but do not offer the four basic wellness and fitness programs. Additional consideration will be given to applicants with regard to their call volume, population served, and whether they make member participation in the wellness and fitness programs mandatory.

(v.) Modifications to Fire Stations. FY 2011 AFG Grants may be used to modify and retrofit existing fire stations and other structures built prior to 2003. New fire station construction is not allowed. No modification may change the structure footprint or profile. If requesting multiple items in this activity, total funding for all project and activities cannot exceed $100,000 per fire station. Eligible projects under this activity must have a direct effect on the health and safety of firefighters.

FEMA is legally required to consider the potential impacts of all grant-funded projects on environmental resources and historic properties. For AFG and other preparedness grant programs, this is accomplished via FEMA's environmental and historic preservation (EHP) review. Grantees must comply with all applicable EHP laws, regulations, and Executive Orders (EOs) in order to draw down their FY 2011 AFG grant funds. Any project with the potential to impact natural resources or historic properties cannot be initiated until FEMA has completed the required FEMA EHP review.

Funding Priorities

Highest priority for funding will be requests to install modifications such as sole-source capture exhaust systems, sprinkler systems, or smoke/fire alarm notification systems in stations that are occupied 24/7 and offer sleeping quarters, including maritime/air operations facilities. Somewhat lower priority will be given to requests from departments for air quality systems and/or emergency generators that are occupied on a daily basis and may or may not offer sleeping quarters. Low priority will be given to requests for the modifications cited above from departments whose facilities are occupied 24/7 but do not offer sleeping quarters as well as requests from training facilities. Additional consideration will be provided for the age of the building, with older facilities receiving greater priority; call volume and the population served also will receive additional consideration.

(2) Firefighting Vehicles Acquisition Program.

AFG provides grants for new firefighting vehicles, used fire apparatus originally designed for firefighting, or refurbished apparatus originally designed for firefighting. Funds also may be used to refurbish a vehicle the department currently owns, but only if the vehicle to be refurbished was designed originally for firefighting. New vehicles purchased with AFG funds must be compliant with NFPA 1901 (Standard for Automotive Apparatus) or NFPA 1906 (Standard for Wildland Fire Apparatus). Used apparatus must be compliant with NFPA 1901 or 1906 for the year the vehicle was manufactured. Refurbished apparatus must meet the current NFPA 1912 (Standard for Fire Apparatus Refurbishing).

Applicants were allowed to apply for more than one vehicle, but requests cannot exceed the financial cap based on population listed in the application. If a department submits multiple applications and more than one of those requests are approved, the department will be held to the same financial cap.

New in FY 2011: Due to nationwide statistics indicating the high number of fire-based EMS calls, ambulances have been elevated from being a low funding priority to being a high priority vehicle. In other words, for fire-based EMS, ambulances will be the equivalent to a pumper as a high priority item.

Funding Priorities

Inherent differences exist between urban, suburban, and rural firefighting conventions. For this reason, DHS has developed different priorities in the Firefighting Vehicles Program for departments that serve different types of communities. The chart below delineates the priorities for firefighting vehicles for each type of community.

New for 2011: Due to nationwide statistics indicating the high number of fire-based EMS calls, ambulances have been moved from a low priority to a high priority.

Firefighting Vehicle Program Priorities

Within each category (high, medium, or low priority), vehicles are listed in order of their funding priority for the community type listed.

Priority | Urban communities | Suburban communities | Rural communities
H | Pumper | Pumper | Pumper.
| Ambulance | Ambulance | Ambulance.
| Aerial | Aerial | Brush-Attack.
| Quint (Aerial < 76′) | Quint (Aerial < 76′) | Tanker-Tender.
| Quint (Aerial > 76′) | Quint (Aerial > 76′) | Quint (Aerial < 76′).
| Rescue | Tanker-Tender
M | Command | Rescue | Command.
| Hazmat | Command | Hazmat.
| Light/Air Unit | Light/Air Unit | Rescue.
| Rehab Unit | Brush-Attack | Light/Air Unit.
| Foam truck | Rehab Unit
L | Aircraft Rescue and Fire Fighting Vehicle (ARFFV) | ARFFV | Foam Truck.
|  | Foam truck | Aerial.
|  | Highway Safety Unit | Highway Safety Unit.
| Brush-Attack | Fire Boat | ARFFV.
| Foam Truck. |  | Rehab Unit.
| Fire Boat. |  | Fire Boat.
| Tanker-Tender.
| Highway Safety Unit.

Additional consideration will be given to the following factors:

• Have automatic aid agreements, mutual aid agreements or both.

• Request the replacement of open cab/jump seat configurations.

• Converted vehicles not designed or intended for use in the fire service.

• Age of the vehicle being replaced; older equipment.

• Age of the newest vehicle in the department's fleet that is like the vehicle to be replaced.

• Average age of the fleet; older equipment within the same class.

• Call volume.

• Population served.

(3) Administrative Costs.

Panelists will assess the administrative costs requested in any application and determine if the request is reasonable and in the best interest of the Program.

Nonaffiliated EMS Organization Priorities

AFG funds may be used to enhance emergency medical services provided by nonaffiliated EMS organizations, but the authorizing statute limits funding for these organizations to no more than 2 percent of the appropriated amount.

The Criteria Development Panel recommended that it is more cost-effective to enhance or expand an existing EMS organization, by providing training or equipment, than it is to create a new service. Therefore, communities attempting to initiate EMS services will receive the lowest competitive rating. Requests for equipment and training to prepare for response to incidents involving CBRNE are available under the applicable Equipment and Training activities.

Specific rating criteria and priorities for each of the grant categories are provided below following the descriptions of this year's eligible programs. The rating criteria, in conjunction with the program description, provide an understanding of the evaluation standards. In each activity, the size of the population served by the applicant will be taken into consideration, with larger populations afforded more consideration than smaller populations. DHS will explain further the priorities in the Guidance and Application Kit. Applicants may apply for as many of the activities within this program as they deem necessary.

(1) EMS Operations and Safety Program.

Five different activities may be funded under this program area:

• First responder/Emergency Medical Responder (EMR) training.

• EMS equipment acquisition.

• EMS personal protective equipment.

• EMS wellness and fitness.

• Modifications to EMS facilities.

(i) First Responder/EMS Training Activities. AFG provides grants to train EMS personnel. Examples of training activities include, but are not limited to, first responder, Basic Life Support (BLS), Advanced Life Support (ALS), Paramedic, Hazmat Operations, or Rescue Operations.

Funding Priorities

Since training is a prerequisite to the effective use of EMS equipment, organizations that request items more focused on training activities will receive a higher competitive rating than organizations that focus on equipment.

A high competitive rating will be given to nonaffiliated EMS organizations that are planning to upgrade services to ALS level of response. Specifically, organizations that are seeking to elevate the response level from EMT-B to EMT-I will receive the highest priority, and organizations that are seeking to elevate the response level from EMT-I to EMT-P will receive a high priority.

Requests for support of Emergency Medical Technician-Paramedic (EMT-P) training will receive high priority. The second priority is to elevate emergency responders' capabilities from first responder to a BLS level of response, i.e., EMT-B. Due to the time and cost, upgrading an organization's response level from EMT-B to EMT-P is a lower priority. Organizations seeking training in rescue or Hazmat operations will receive lower consideration than organizations seeking training for medical services.

The lowest priority is to fund first responder training. Organizations seeking to train a high percentage of the active first responders will receive additional consideration when applying under the EMS Training Activity.

Copies of NFPA standards may be reviewed at http://www.NFPA.org.

(ii) EMS Equipment Acquisition. AFG funds are available for equipment to enhance the safety or effectiveness of EMS response. Equipment requested must meet all mandatory requirements as well as any national, state, or DHS-adopted standards. Equipment requested should solve interoperability or compatibility problems as may be required by local jurisdictions. Equipment requested, particularly decontamination and Hazmat equipment, is fundable to the current level of an organization's capabilities.

Funding Priorities

Highest priority in the EMS Training activity will be given to requests to upgrade service from Basic Life Support (BLS) to Advanced Life Support (ALS), i.e., EMT-I and EMT-P. With regard to compliance with NFPA standards, requests for equipment that brings the department into compliance with national, state or local jurisdictional requirements will receive high priority. Of moderate priority will be requests for equipment that brings a department into voluntary compliance with NFPA/OSHA standards and requests to expand current EMS. Low priority will be given to requests to begin a new service, to replace used or obsolete equipment, and to buy equipment that does not affect statutory compliance or voluntary compliance with a national standard. Also low in priority will be requests for equipment for HAZMAT operations/technicians and for rescue operations/technicians.

Additional consideration will be given to requests that support a regional collaboration and to the applicant's call volume and population served.

(iii) EMS Personal Protective Equipment. AFG funds are available to acquire EMS PPE for first responder personnel. Equipment requested must meet all mandatory requirements, as well as any current national and/or state DHS-adopted standards or local EMS protocols.

Funding Priorities

High priority for funding will be requests to buy new PPE for the first time and requests to buy PPE for the first time and/or for applicants that need to replace or update obsolete PPE to the current standard. Moderate priority will be given to requests to replace torn, tattered, damaged, or contaminated PPE. Low priority will be given to replacing worn but still usable PPE that is not compliant to the current edition of NFPA standard and/or to handle a new mission or to increase the PPE inventory.

Applicants must indicate grant-purchased equipment will be operated by sufficiently trained staff. Failure to meet this requirement will result in ineligibility for funding. Additional considerations will be given to the percentage firefighters/EMS personnel served by the project, age of equipment, call volume, and population served.

SCBA Priorities

Awards will be based on the number of seated positions in department's vehicle fleet and the age of existing SCBAs, limited to one spare cylinder (unless justified in the PPE activity narrative). Highest priority for funding of SCBAs will be to replace SCBA that are compliant with the pre-2002 edition of NFPA 1981. Moderate priority will be given to replacing SCBA that are compliant with the 2002 edition of NFPA 1981. Low priority will be given to requests to replace SCBA that are compliant with the 2007 edition of NFPA 1981 (requests must be justified in the PPE narrative).

(iv) EMS Wellness and Fitness Activities. Wellness programs are intended to strengthen uniformed personnel so the mental, physical, and emotional capabilities are resilient to withstand the demands of emergency services response. To be eligible for funding under this activity in FY 2011, organizations must offer, or plan to offer, all four of the following basic wellness and fitness programs:

• Periodic health screenings

• Entry physical examinations (compliant with current NFPA 1582)

• Immunizations

• Behavioral health programs

Funding Priorities

Highest priority will be given to requests from departments that do not offer any of the four basic programs and want to use requested funds to establish all four programs. Moderate priority will be given to requests from departments that offer some of the four basic programs but request funds to offer the remaining activities. Low priority will be given to requests from departments that want to purchase physical fitness equipment but do not offer the four basic programs.

Priority consideration will be given to departments that have some of the Priority 1 programs in place, i.e., initial medical exams, job-related immunization program, as required by the department, or law; annual medical/fitness evaluations; behavioral health programs; and requiring that participation in the Wellness and Fitness programs be mandatory for their members. Applicants must apply for funds to implement the Priority 1 activities before applying for funds for any additional program or equipment. In addition, funded medical exams must meet current NFPA 1582, as required by DHS standards. Priority 2 programs include candidate physical ability evaluations, formal fitness and injury prevention programs and equipment, requests from departments having a plan to sustain their wellness and fitness programs, and requests from those that make it mandatory for all members to participate in the wellness and fitness programs.

(v) Modification to EMS Facilities. Grants may be used only to modify or retrofit existing EMS facilities that were built before 2003 and do not have specific safety features. The construction of new facilities is not eligible for funding. Grant funds may only be used to retrofit existing structures built prior to 2003 that do not have the requisite safety features. If requesting multiple items in this activity, funding cannot exceed a maximum of $100,000 per station. Remodeling to fulfill other grant initiatives is limited to $10,000. Eligible projects under this activity must have a direct effect on the health and safety of first responders.

FEMA is legally required to consider the potential impacts of all grant-funded projects on environmental resources and historic properties. For AFG and other preparedness grant programs, this is accomplished via FEMA's EHP Review. Grantees must comply with all applicable EHP laws, regulations, and Executive Orders (EOs) in order to draw down their FY 2011 AFG grant funds. Any project with the potential to impact natural resources or historic properties cannot be initiated until FEMA has completed the required FEMA EHP review. Grantees that implement projects prior to receiving EHP approval from FEMA risk de-obligation of funds.

AFG projects that involve the installation of equipment, ground-disturbing activities, and new construction, including communication towers, or modification/renovation of existing buildings or structures must undergo a FEMA EHP review. Activities not specifically excluded from a FEMA EHP review also will require an EHP review per the GPD Programmatic Environmental Assessment (PEA). For more information on the PEA, see Information Bulletin 345 at http://www.fema.gov/pdf/government/grant/bulletins/info345.pdf.

Funding Priorities

Highest priority in this activity will go to departments requesting direct sole-source capture exhaust systems, sprinkler systems, or smoke/fire alarm notification systems for stations with sleeping quarters, including maritime/air operations facilities, that are occupied 24/7. Moderate priority will be given to departments (with or without sleeping quarters) that request air quality systems and/or emergency generators. Low priority will be given to departments requesting funding of one of the high or moderate priorities listed above but do not have facilities that are occupied 24/7 and do not have sleeping quarters and also to requests from training facilities. Additional consideration will be given to departments (with or without sleeping quarters) that request air quality systems and/or emergency generators; additional consideration also will be given concerning the factors of call volume and population served.

(2) EMS Vehicles Acquisition Program.

Due to inherent differences among urban, suburban, and rural firefighting needs, AFG has different priorities in the Vehicles program area for departments that serve different types of communities. Applicants requesting vehicles that do not have driver/operators trained to U.S. Department of Transportation Emergency Vehicle Operators Course (EVOC) National Standard Curriculum, or equivalent, and are not planning to have a training program in place by the time the vehicle is delivered, will not receive an award.

To be eligible for funding, new vehicles purchased with AFG funds must be compliant with current General Services Administration standards, specifically KKK-A-1822E (Guide for Emergency Medical Services and Systems).

Funds may be used to acquire new, used, or refurbished EMS vehicles. Funds may also be used to refurbish a vehicle the organization currently owns. Refurbished apparatus must meet currently applicable standards (NFPA, GSA KKK-1822F Specification standards).

Funding Priorities

The following chart shows the priorities in the EMS Vehicle Program for FY 2011. The priorities are the same for all types of communities: Urban, suburban, and rural.

Applicants may request funding for a training program in the Vehicles section of the application, but it must be listed in the Additional Funding area in the Request Details section. Driver training programs must be in place prior to vehicle delivery.

(3) Administrative Costs.

Panelists will assess the administrative costs requested in each application and determine whether the request is reasonable and in the best interest of the Program.

Regional Project Priorities

A regional project is one in which multiple organizations serving more than one local jurisdiction benefit directly from the activities implemented with the grant funds. Regional projects are designed to facilitate efficiency and communications on the fire ground among multiple jurisdictions. Any eligible applicant may act as a host applicant and apply for a regional project. Note that a county fire department applying for a countywide communications system would NOT be considered a regional project because it does not benefit multiple jurisdictions.

Funding Priorities

The funding priorities for regional requests are the same priorities as indicated previously for fire and EMS but are limited to the following areas:

(1) Training.

• Training that benefits multiple jurisdictions and/or all regional partners.

• Training props.

• Training trailers, to include manufactured burn trailers.

• EMS training throughout the region to meet local jurisdictional standards.

(2) Equipment.

• Communications equipment to include infrastructure (dispatch centers), handheld portables, pagers, repeaters, etc.

• Standardization of EMS equipment to meet local jurisdictional standards.

• Other equipment that would be beneficial the mission of all regional partners.

(3) Personal Protective Equipment.

• SCBA (face piece, voice amp, harness/PASS device, one spare cylinder).

• Accountability systems.

• PPE that meets NFPA and OSHA blood-borne pathogen standards.

• Firefighting PPE.

Not Eligible for Regional Funding: Wellness and fitness, modification to facilities, and vehicle acquisition are not eligible as regional projects.

Award Information

Applications for regional projects will not be included in the host applicant's funding limitations detailed in Part II of the Guidance and Application Kit. However, regional applicants will be subject to their own limitation based on the total population that the regional project will serve. For example, a regional project serving a population of fewer than 500,000 people will be limited to $1 million. A regional project's cost share will be based on the total population of the entire region rather than on the population served by the host applicant.

W. Craig Fugate,
Administrator, Department of Homeland Security, Federal Emergency Management Agency.

[FR Doc. 2011-29500 Filed 11-15-11; 8:45 am]

BILLING CODE 9111-64-P